ENVIRONMENTAL PROTECTION AGENCY

40 CFR Part 180

[EPA-HQ-OPP-2012-0384; FRL-9911-17]

Imazapic; Pesticide Tolerances; Technical Correction

AGENCY: Environmental Protection Agency (EPA).

ACTION: Final rule; technical correction.

SUMMARY: EPA issued a final rule in the Federal Register of August 16, 2013, concerning the establishment of a tolerance for imazapic in or on sugarcane, cane. This document is being issued to correct the codified section by including a footnote under the table in paragraph (a)(1) to denote that there are no U.S. registrations for the commodity sugarcane, cane.

DATES: This final rule correction is effective June 4, 2014.

ADDRESSES: The docket for this action, identified by docket identification (ID) number EPA-HQ-OPP-2012-0384, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Lois Rossi, Registration Division (7505P), Office of Pesticide Programs, Environmental Protection Agency, 1200 Pennsylvania Ave. NW., Washington DC 20460-0001; telephone number: (703) 305-7090; email address: RDFRNotices@epa.gov.

SUPPLEMENTARY INFORMATION:

I. Does this action apply to me?

The Agency included in the August 16, 2013 final rule a list of those who may be potentially affected by this action.

II. What does this technical correction do?

EPA issued a final rule in the Federal Register of August 16, 2013 (78 FR 49927) (FRL-9394-8) that established a tolerance for residues of the herbicide imazapic in or on the commodity sugarcane, cane. EPA inadvertently omitted the footnote “There are no US registrations as of August 16, 2013.” in the tolerance table denoting that the established tolerance on sugarcane, cane is an import tolerance only.

III. Why is this correction issued as a final rule?

Section 553 of the Administrative Procedure Act (APA) (5 U.S.C. 553(b)(3)(B)) provides that, when an Agency for good cause finds that notice and public procedure are impracticable, unnecessary, or contrary to the public interest, the Agency may issue a final rule without providing notice and an opportunity for public comment. EPA has determined that there is good cause for making this technical correction final without prior proposal and opportunity for comment, because the addition of a footnote to the tolerance table for the reason stated in Unit II, is not a significant change and does not affect the outcomes of the August 16, 2013 final rule. EPA finds that this constitutes good cause under 5 U.S.C. 553(b)(3)(B).

IV. Do any of the statutory and executive order reviews apply to this action?

All applicable statutory requirements were discussed in the final rule that was published on August 16, 2013.

V. Congressional Review Act

Pursuant to the Congressional Review Act (5 U.S.C. 801 et seq.), EPA will submit a report containing this rule and other required information to the U.S. Senate, the U.S. House of Representatives, and the Comptroller General of the United States prior to publication of this rule in the Federal Register. This final rule is not a “major rule” as defined by 5 U.S.C. 804(2).

List of Subjects in 40 CFR Part 180

Environmental protection, Administrative practice and procedure, Agricultural commodities, Pesticides and pests, Reporting and recordkeeping requirements.

Dated: May 28, 2014.
Lois Rossi,
Director, Registration Division, Office of Pesticide Programs.

Therefore, 40 CFR part 180 is amended as follows:

PART 180—[AMENDED]

1. The authority citation for part 180 continues to read as follows:

Authority: 21 U.S.C. 321(q), 346a and 371.

2. In § 180.490, amend the table in paragraph (a)(1) by revising the entry for “Sugarcane, cane” to read as follows:

§ 180.490 Imazapic; tolerances for residues.

(a) General. (1) * * *

Commodity | Parts per million
* * * * *
Sugarcane, cane ² | 0.03
* * * * *
² There are no U.S. registrations as of June 4, 2014.

* * * * *

[FR Doc. 2014-12939 Filed 6-3-14; 8:45 am]

BILLING CODE 6560-50-P